INTERNATIONAL TRADE COMMISSION

[USITC SE-09-013]

Government in the Sunshine Act Meeting Notice

Agency Holding the Meeting: United States International Trade Commission.

Time and Date: May 8, 2009 at 11 a.m.

Place: Room 101, 500 E Street, SW., Washington, DC 20436, Telephone: (202) 205-2000.

Status: Open to the public.

Matters To Be Considered:

1. Agenda for future meetings: None.

2. Minutes.

3. Ratification List.

4. Inv. Nos. 701-TA-456 and 731-TA-1151-1152 (Final) (Citric Acid and Certain Citrate Salts from Canada and China)—briefing and vote. (The Commission is currently scheduled to transmit its determinations and Commissioners' opinions to the Secretary of Commerce on or before May 18, 2009.)

5. Inv. No. 731-TA-1013 (Review) (Saccharin from China)—briefing and vote. (The Commission is currently scheduled to transmit its determination and Commissioners' opinions to the Secretary of Commerce on or before May 21, 2009.)

6. Outstanding action jackets: None.

In accordance with Commission policy, subject matter listed above, not disposed of at the scheduled meeting, may be carried over to the agenda of the following meeting.

Issued: April 24, 2009.
By order of the Commission.
William R. Bishop,
Hearings and Meetings Coordinator.

[FR Doc. E9-9754 Filed 4-24-09; 4:15 pm]

BILLING CODE 7020-02-P